DEPARTMENT OF ENERGY

Federal Energy Regulatory Commission

Combined Notice of Filings # 1

Take notice that the Commission received the following electric rate filings:

Docket Numbers: ER23-2027-000.

Applicants: Midcontinent Independent System Operator, Inc.

Description: § 205(d) Rate Filing: 2023-05-31_Timeline and Process for Handling Market Implementation Errors to be effective 7/31/2023.

Filed Date: 5/31/23.

Accession Number: 20230531-5311.

Comment Date: 5 p.m. ET 6/21/23.

Docket Numbers: ER23-2028-000.

Applicants: Pacific Gas and Electric Company.

Description: § 205(d) Rate Filing: May 2023 Western WDT Service Agreement Biannual Filing (SA 17) to be effective 8/1/2023.

Filed Date: 5/31/23.

Accession Number: 20230531-5323.

Comment Date: 5 p.m. ET 6/21/23.

Docket Numbers: ER23-2029-000.

Applicants: Pacific Gas and Electric Company.

Description: § 205(d) Rate Filing: May 2023 Western Interconnection Biannual Filing (SA 59) to be effective 8/1/2023.

Filed Date: 5/31/23.

Accession Number: 20230531-5326.

Comment Date: 5 p.m. ET 6/21/23.

Docket Numbers: ER23-2030-000.

Applicants: Baconton Power LLC.

Description: Baconton Power, LLC submits Notice of cancellation of the Common Bus Ownership Agreement with SOWEGA Power LLC.

Filed Date: 5/30/23.

Accession Number: 20230530-5318.

Comment Date: 5 p.m. ET 6/20/23.

Docket Numbers: ER23-2031-000.

Applicants: El Paso Electric Company.

Description: § 205(d) Rate Filing: OATT Revisions Filing of Attachment M Related to Interconnection Queue to be effective 8/1/2023.

Filed Date: 5/31/23.

Accession Number: 20230531-5351.

Comment Date: 5 p.m. ET 6/21/23.

Docket Numbers: ER23-2032-000.

Applicants: Louisiana Generating LLC.

Description: Request to Recover Costs Associated with Acting as a Local Balancing Authority of Louisiana Generating LLC.

Filed Date: 5/30/23.

Accession Number: 20230530-5322.

Comment Date: 5 p.m. ET 6/20/23.

Docket Numbers: ER23-2033-000.

Applicants: ITC Midwest LLC.

Description: Request for Authorization for Abandoned Plant Incentive Rate Treatment of ITC Midwest.

Filed Date: 5/30/23.

Accession Number: 20230530-5323.

Comment Date: 5 p.m. ET 6/20/23.

Docket Numbers: ER23-2034-000.

Applicants: Louisiana Energy & Power Authority.

Description: Request to Recover Costs Associated with Acting as a Local Balancing Authority of Louisiana Energy and Power Authority.

Filed Date: 5/31/23.

Accession Number: 20230531-5425.

Comment Date: 5 p.m. ET 6/21/23.

Docket Numbers: ER23-2035-000.

Applicants: ISO New England Inc., Versant Power.

Description: § 205(d) Rate Filing: ISO New England Inc. submits tariff filing per 35.13(a)(2)(iii): ISO-NE and Versant Power; Original Service Agreements.

Filed Date: 6/1/23.

Accession Number: 20230601-5112.

Comment Date: 5 p.m. ET 6/22/23.

Docket Numbers: ER23-2036-000.

Applicants: Niagara Mohawk Power Corporation, New York Independent System Operator, Inc.

Description: § 205(d) Rate Filing: Niagara Mohawk Power Corporation submits tariff filing per 35.13(a)(2)(iii): NMPC 205: SGIA between Niagara Mohawk and Lyons Falls, SA No. 2780 to be effective 5/2/2023.

Filed Date: 6/1/23.

Accession Number: 20230601-5152.

Comment Date: 5 p.m. ET 6/22/23.

Docket Numbers: ER23-2037-000.

Applicants: Consolidated Edison Company of New York, Inc.

Description: § 205(d) Rate Filing: Standby Rate Exemptions to be effective 6/1/2023.

Filed Date: 6/1/23.

Accession Number: 20230601-5165.

Comment Date: 5 p.m. ET 6/22/23.

Docket Numbers: ER23-2038-000; TS23-5-000.

Applicants: Chevelon Butte RE LLC, Chevelon Butte RE LLC.

Description: Request for Temporary Waiver of Open-Access Requirements of Order Nos. 888, et al. of Chevelon Butte RE LLC.

Filed Date: 5/25/23.

Accession Number: 20230525-5207.

Comment Date: 5 p.m. ET 6/15/23.

Docket Numbers: ER23-2039-000.

Applicants: Entergy Mississippi, LLC.

Description: § 205(d) Rate Filing: MDEA LBA Agreement to be effective 6/1/2023.

Filed Date: 6/1/23.

Accession Number: 20230601-5215.

Comment Date: 5 p.m. ET 6/22/23.

Take notice that the Commission received the following electric securities filings:

Docket Numbers: ES23-45-000.

Applicants: Tri-State Generation and Transmission Association, Inc.

Description: Supplement to Application Under Section 204 of the Federal Power Act for Authorization to Issue Securities of Tri-State Generation and Transmission Association, Inc.

Filed Date: 5/30/23.

Accession Number: 20230530-5314.

Comment Date: 5 p.m. ET 6/9/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 1, 2023.
Debbie-Anne A. Reese,
Deputy Secretary.

[FR Doc. 2023-12183 Filed 6-6-23; 8:45 am]

BILLING CODE 6717-01-P